DEPARTMENT OF THE INTERIOR

Office of the Secretary

[XXXD5198NI DS61100000 DNINR0000.000000 DX61104]

Notice of Meetings of the Exxon Valdez Oil Spill Public Advisory Committee

AGENCY: Office of the Secretary, Interior.

ACTION: Meeting notice.

SUMMARY: In accordance with the Federal Advisory Committee Act, the Department of the Interior is announcing that the Exxon Valdez Oil Spill (EVOS) Public Advisory Committee (PAC) will meet in person and by video teleconference as noted below.

DATES: The PAC will hold public meetings on September 16, 2024, from 12 p.m. to 2 p.m.; October 8, 2024, from 9 a.m. to 5 p.m., and on October 9, 2024, from 9 a.m. to 5 p.m. Alaska time (AKT).

ADDRESSES: The September 16, 2024, meeting will be held virtually.

The October 8-9, 2024, meeting will be held in-person in the Glenn Olds Hall Conference Room, 4210 University Drive, Anchorage, Alaska, and a virtual participation option will be available using the Microsoft Teams meeting platform. To view a tutorial on how to join a Teams meeting, please go to https://support.microsoft.com/en-gb/office/join-a-meeting-in-microsoft-teams-1613bb53-f3fa-431e-85a9-d6a91e3468c9.

The video feature will be turned off for all attendees except for the EVOS PAC, EVOS Trustee Council staff, presenters, and speakers during public comment to limit bandwidth use and maximize connectivity during the meeting. Please remain muted until you are called upon to speak.

Connect to meeting using Microsoft Teams link (video and audio):

Please check the EVOS Trustee Council website for updates regarding the meetings at http://evostc.state.ak.us/.

FOR FURTHER INFORMATION CONTACT: Grace Cochon, Department of the Interior, Office of Environmental Policy and Compliance, telephone number: (907) 227-3781; email: grace_cochon@ios.doi.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The EVOS PAC was created pursuant to paragraph V.A.4 of the Memorandum of Agreement and Consent Decree entered into by the United States of America and the State of Alaska on August 27, 1991, and approved by the United States District Court for the District of Alaska in settlement of United States of America v. State of Alaska, Civil Action No. A91-081 CV. The EVOS PAC advises the EVOS Trustee Council on decisions relating to the allocation of settlement funds for restoration, monitoring, and other activities related to the oil spill.

The EVOS PAC meeting agenda for the September 16, 2024, meeting will include a discussion regarding the Killey River acquisition and the meeting agenda for the October 8-9, 2024, meeting will include review of the biennial report that summarizes program and project status. An opportunity for public comments will be provided. The final agenda and materials for the meeting will be posted on the EVOS Trustee Council website at http://evostc.state.ak.us. All EVOS PAC meetings are open to the public.

Public Input

Interested persons may choose to make oral comments at the meeting during the designated time. Depending on the number of people wishing to comment and the time available, the amount of time for oral comments may be limited. Interested parties should contact the Designated Federal Officer (see FOR FURTHER INFORMATION CONTACT) for advance placement on the public speaker list for this meeting.

Meeting Accessibility/Special Accommodations

Please make requests in advance for sign language interpreter services, assistive listening devices, language translation services, or other reasonable accommodations. We ask that you contact the person listed in the (see FOR FURTHER INFORMATION CONTACT) section of this notice at least seven (7) business days prior to the meeting to give the Department of the Interior sufficient time to process your request. All reasonable accommodation requests are managed on a case-by-case basis.

Submitting Written Information or Questions

Interested members of the public may submit relevant information or questions for the EVOS PAC to consider during the public meeting. Written statements may be sent in advance of the scheduled meeting at least three (3) business days prior to the meeting so that the information may be made available to the EVOS PAC for their consideration prior to this meeting. Written statements must be supplied to the Designated Federal Officer (see FOR FURTHER INFORMATION CONTACT) and/or in writing in the following formats: A hard copy with original signature and/or an electronic copy (acceptable file formats are Adobe Acrobat PDF, MS Word, or rich text file).

Public Disclosure of Comments

Before including your address, phone number, email address, or other personal identifying information in your comments, please be aware that your entire comment, including your personal identifying information, may be made publicly available at any time. While you can ask us in your comment to withhold your personal identifying information from public review, we cannot guarantee that we will be able to do so.

Authority: 5 U.S.C. ch. 10.

Lisa Fox,
Regional Environmental Officer, Office of Environmental Policy and Compliance.

[FR Doc. 2024-19438 Filed 8-28-24; 8:45 am]

BILLING CODE 4334-63-P